DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Advance Monthly Retail Trade Survey.

Form Number(s): SM-44(06)A, SM-44(06)AE, SM-44(06)AS, SM-72(06)A, SM-44(06)FA, SM-44(06)FAE, SM-44(06)FAS, SM-72(06)FA.

OMB Control Number: 0607-0104.

Type of Request: Extension of a currently approved collection.

Burden Hours: 5,000.

Number of Respondents: 5,000.

Average Hours per Response: 5 minutes.

Needs and Uses: The Advance Monthly Retail Trade Survey (MARTS) was developed in response to requests by government, business, and other users to provide an early indication of current retail trade activity in the United States. The MARTS also provides an estimate of monthly sales at food service establishments and drinking places.

Policymakers such as the Federal Reserve Board need to have the timeliest estimates in order to anticipate economic trends and act accordingly. Sales data from this survey provide the earliest possible look at consumer spending and are necessary for the calculation of the personal consumption expenditures component of Gross Domestic Product (GDP). Without the Advance Monthly Retail Trade Survey, the Census Bureau's earliest measure of retail sales is the “preliminary” estimate from the full monthly sample released about 40 days after the reference month. Advance estimates are released approximately 12 days after the reference month.

The Council of Economic Advisers, Bureau of Economic Analysis (BEA), Federal Reserve Board, and other government agencies, as well as businesses use sales estimates developed from the Advance Monthly Retail Trade Survey in formulating economic decisions. Data users especially value these estimates because of their timeliness. There would be approximately a one month delay in the availability of these data if this survey were not conducted.

We intend to select a new MARTS sample to be introduced in Fall 2009. We expect the number of respondents to increase from 4,500 to 5,000 as a result of selecting the new sample.

Affected Public: Business or other for-profit.

Frequency: Monthly.

Respondent's Obligation: Voluntary.

Legal Authority: Title 13 U.S.C., Section 182.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: July 8, 2009.
Glenna Mickelson,
Management Analyst, Office of the Chief Information Officer.

[FR Doc. E9-16522 Filed 7-13-09; 8:45 am]

BILLING CODE 3510-07-P